DEPARTMENT OF ENERGY

Federal Energy Regulatory Commission

[Docket No. EC00-75-000, et al.]

Nisource Inc., et al.; Electric Rate and Corporate Regulation Filings

April 18, 2000.

Take notice that the following filings have been made with the Commission:

1. Nisource Inc. and Columbia Energy Group

[Docket No. EC00-75-000]

Take notice that on April 10, 2000, NiSource Inc. and Columbia Energy Group, on behalf of their public utility subsidiaries (collectively, the Applicants) filed a joint application under Section 203 of the Federal Power Act and Part 33 of the Commission's regulations to request authorization and approval for the proposed merger between NiSource Inc. and Columbia Energy Group.

The Applicants state that copies of the filing have been served upon the state utility commissions of Indiana, Kentucky, Maine, Maryland, Massachusetts, New Hampshire, Ohio, Pennsylvania and Virginia and wholesale electric customers of NiSource Inc. and Columbia Energy Group.

Comment date: June 9, 2000, in accordance with Standard Paragraph E at the end of this notice.

2. Indeck Capital, Inc. and Black Hills Corporation

[Docket No. EC00-76-000]

Take notice that on April 10, 2000, Indeck Capital, Inc. (Indeck) and Black Hills Corporation (Black Hills), tendered for filing a joint application under Section 203 of the Federal Power Act for authorization to merge Indeck into Black Hills Energy Capital, Inc., a subsidiary of Black Hills Corporation. Black Hills is a South Dakota corporation which conducts its utility business as Black Hills Power and Light Company. Indeck owns, operates and invests in exempt wholesale generators and qualifying facilities. Upon consummation of the merger, Indeck will be dissolved and Black Hills Energy Capital, Inc. will take possession of Indeck's facilities, including certain assets subject to the jurisdiction of the Commission.

In addition, on April 13, 2000, Indeck and Black Hills filed Supplement No. 1 to Exhibit G of the above-referenced Joint Application.

Comment date: June 9, 2000, in accordance with Standard Paragraph E at the end of this notice.

3. Indeck Colorado, LLC

[Docket No. EG00-118-000]

Take notice that on April 14, 2000, Indeck Colorado, LLC, filed an amendment to its application for determination of exempt wholesale generator status. Indeck Colorado requested that the Commission establish a shortened notice period for its filing.

Comment date: May 9, 2000, in accordance with Standard Paragraph E at the end of this notice. The Commission will limit its consideration of comments to those that concern the adequacy or accuracy of the application.

4. TransAlta Centralia Generation LLC

[Docket No. EG00-131-000]

Take notice that on April 12, 2000 TransAlta Centralia Generation LLC tendered for filing with the Federal Energy Regulatory Commission (FERC), an Application for Commission Determination of Exempt Wholesale Generator Status pursuant to Part 365 of the Commission's Regulations.

Comment date: May 9, 2000, in accordance with Standard Paragraph E at the end of this notice. The Commission will limit its consideration of comments to those that concern the adequacy or accuracy of the application.

5. American Electric Power Service Corporation

[Docket No. ER93-540-009]

Take notice that on April 12, 2000, American Electric Power Service Corporation (AEP), tendered for filing Notice of Conditional Withdrawal of Petitions for Rehearing and Compliance Rates.

Comment date: May 3, 2000, in accordance with Standard Paragraph E at the end of this notice.

6. Columbia Energy Power Marketing Corporation

[Docket No. ER97-3667-010]

Take notice that on April 13, 2000, Columbia Energy Power Marketing Corporation tendered for filing Notice of Change in Status and a code of conduct related to the proposed merger of Columbia Energy Group and NiSource Inc.

Comment date: May 4, 2000, in accordance with Standard Paragraph E at the end of this notice.

7. Conectiv Energy Supply Inc., Atlantic City Electric Company and Delmarva Power & Light Company

[Docket No. ER00-2201-000]

Take notice that Conectiv, on behalf of its affiliates Conectiv Energy Supply, Inc. (CESI), Atlantic City Electric Company (Atlantic) and Delmarva Power & Light Company (Delmarva), on April 13, 2000, tendered for filing (i) an amendment to CESI's service agreement for market-based sales to Delmarva, and (ii) service agreements for market-based sales by Delmarva and Atlantic to CESI.

Conectiv requests waiver of the Commission's notice requirements to allow the proposed service agreements and amendment to the service agreement to become effective on June 1, 2000.

Copies of the filing were served upon Delmarva's wholesale requirements customers, and the Maryland People's Counsel, Maryland Public Service Commission, Delaware Public Service Commission, New Jersey Board of Public Utilities and the Virginia State Corporation Commission.

Comment date: May 4, 2000, in accordance with Standard Paragraph E at the end of this notice.

8. Niagara Mohawk Power Corporation

[Docket No. ER00-2200-000]

Take notice that on April 13, 2000, Niagara Mohawk Power Corporation (NMPC), tendered for filing with the Federal Energy Regulatory Commission an executed form Service Agreement between NMPC and the city of Buffalo (Purchaser). The Service Agreement specifies that the Purchaser has signed and agreed to the terms and conditions of NMPC's Power Sales Tariff designated as NMPC's FERC Electric Tariff, Original Volume No. 2. This Tariff, approved by FERC on April 15, 1994, and having an effective date of March 13, 1993, allows NMPC and the Purchaser to enter into separately scheduled transactions under which NMPC will sell to the Purchaser capacity and/or energy as the parties may mutually agree.

In its filing letter, NMPC also included a Certificate of Concurrence from the Purchaser.

NMPC is: (a) Requesting an effective date of November 1, 1999 for the agreement, and (b) requesting waiver of the Commission's notice requirements for good cause shown.

NMPC has served copies of the filing upon the New York State Public Service Commission and the companies included in a Service List enclosed with the filing.

Comment date: May 4, 2000, in accordance with Standard Paragraph E at the end of this notice.

9. Duke Energy Moss Landing LLC and Duke Energy Oakland LLC

[Docket Nos. ER98-2668-009, ER98-2669-008, ER99-1127-007, ER99-1128-007, ER98-4296-006 and ER98-4300-006]

Take notice that on April 14, 2000, Duke Moss Landing, LLC and Duke South Bay, LLC tendered for filing a compliance report regarding refunds as required by the Commission's Order issued January 28, 2000 approving the Final Offer of Settlement filed in the above-captioned proceedings on November 16, 1999.

Comment date: May 4, 2000, in accordance with Standard Paragraph E at the end of this notice.

10. Carolina Power & Light Company

[Docket No. ER00-2179-000]

Take notice that on April 12, 2000, Carolina Power & Light Company (CP&L), tendered for filing a Service Agreement for Non-Firm Point-to-Point Transmission Service with Amerada Hess Corporation. Service to this Eligible Customer will be in accordance with the terms and conditions of Carolina Power & Light Company's Open Access Transmission Tariff.

CP&L is requesting an effective date of March 31, 2000, for this Agreement.

Copies of the filing were served upon the North Carolina Utilities Commission and the South Carolina Public Service Commission.

Comment date: May 3, 2000, in accordance with Standard Paragraph E at the end of this notice.

11. Ameren Services Company

[Docket No. ER00-2180-000]

Take notice that on April 12, 2000, Ameren Services Company (Ameren), tendered for filing an unexecuted Illinois Retail Network Integration Transmission Service Agreement and an unexecuted Illinois Retail Network Operating Agreement, between Ameren and Edgar Electric Cooperative Association d/b/a EnerStar (Edgar Electric). Ameren asserts that the purpose of the agreements is to permit Ameren to provide service over its transmission and distribution facilities to unbundled Illinois retail customers of Edgar Electric under the Ameren Open Access Tariff.

Ameren seeks on effective date of March 13, 2000 and, accordingly, seeks waiver of the Commission's notice requirements.

Comment date: May 3, 2000, in accordance with Standard Paragraph E at the end of this notice.

12. Wisconsin Public Service Corporation

[Docket No. ER00-2182-000]

Take notice that on April 12, 2000, Wisconsin Public Service Corporation, tendered for filing an West Marinette M34 Unit Interconnection Agreement between Madison Gas & Electric Company and Wisconsin Public Service Corporation.

Copies of the filing were served upon Madison Gas and Electric Company and the Public Service Commission of Wisconsin.

Comment date: May 3, 2000, in accordance with Standard Paragraph E at the end of this notice.

13. PPL Great Works, LLC

[Docket No. ER00-2183-000]

Take notice that on April 12, 2000, PPL Great Works, LLC tendered for filing Notice of Change in Corporate Name to notify the Federal Energy Regulatory Commission that the corporate name of PP&L Great Works, LLC has been changed to PPL Great Works, LLC, effective February 29, 2000.

Comment date: May 3, 2000, in accordance with Standard Paragraph E at the end of this notice.

14. PPL Colstrip II, LLC

[Docket No. ER00-2184-000]

Take notice that on April 12, 2000, PPL Colstrip II, LLC tendered for filing a Notice of Change in Corporate Name to notify the Federal Energy Regulatory Commission that the corporate name of PP&L Colstrip II, LLC has been changed to PPL Colstrip II, LLC, effective February 29, 2000.

Comment date: May 3, 2000, in accordance with Standard Paragraph E at the end of this notice.

15. PPL Colstrip I, LLC

[Docket No. ER00-2185-000]

Take notice that on April 12, 2000, PPL Colstrip I, LLC tendered for filing a Notice of Change in Corporate Name to notify the Federal Energy Regulatory Commission that the corporate name of PP&L Colstrip I, LLC has been changed to PPL Colstrip, LLC, effective February 29, 2000.

Comment date: May 3, 2000, in accordance with Standard Paragraph E at the end of this notice.

16. PPL Maine, LLC

[Docket No. ER00-2186-000]

Take notice that on April 12, 2000, PPL Maine, LLC tendered for filing a Notice of Change in Corporate Name to notify the Federal Energy Regulatory Commission that the corporate name of Penobscot Hydro, LLC has been changed to PPL Maine, LLC, effective February 29, 2000.

Comment date: May 3, 2000, in accordance with Standard Paragraph E at the end of this notice.

17. CMS Distributed Power, L.L.C.

[Docket No. ER00-2187-000]

Take notice that on April 12, 2000, CMS Distributed Power, L.L.C. (CMS Distributed Power), tendered for filing, pursuant to Rule 205, 18 CFR 385.205, petition for waivers and blanket approvals under various regulations of the Commission and for an order accepting its FERC Electric Rate Schedule No. 1 to be effective at the earliest possible time, but no later than 60 days from the date of its filing.

CMS Distributed Power intends to engage in electric power and energy purchases and sales. In transactions where CMS Distributed Power sells electric energy, it proposes to make such sales on rates, terms and conditions to be mutually agreed to with the purchasing party. As outlined in CMS Distributed Power's petition, CMS Distributed Power is an affiliate of CMS Energy, a public utility holding company and the parent company of Consumers Energy.

Comment date: May 3, 2000, in accordance with Standard Paragraph E at the end of this notice.

18. CET Marketing, L.P.

[Docket No. ER00-2188-000]

Take notice that on April 12, 2000, CET Marketing, L.P. (CET Marketing), tendered for filing notice that effective July 8, 1999, CET Marketing's Rate Schedule FERC No. 1, filed with the Commission on August 31, 1998, and effective September 1, 1998, is to be canceled.

Comment date: May 3, 2000, in accordance with Standard Paragraph E at the end of this notice.

19. Cogen Energy Technology, L.P.

[Docket No. ER00-2189-000]

Take notice that on April 12, 2000, Cogen Energy Technology, L.P. (CETLP), tendered for filing notice that effective July 8, 1999, CETLP's Rate Schedule FERC No. 1, filed with the Commission on August 31, 1998, and effective September 1, 1998, is to be canceled.

Comment date: May 3, 2000, in accordance with Standard Paragraph E at the end of this notice.

20. Allegheny Energy Service Corporation, on behalf of Allegheny Energy Supply Company LLC

[Docket No. ER00-2190-000]

Take notice that on April 13, 2000, Allegheny Energy Service Corporation on behalf of Allegheny Energy Supply Company, LLC (Allegheny Energy Supply), tendered for filing Amendment No. 3 to Supplement No. 5 to complete the filing requirement for one (1) new Customer of the Market Rate Tariff under which Allegheny Energy Supply offers generation services.

Allegheny Energy requests a waiver of notice requirements to make service available as of November 18, 1999, to American Electric Power Service Corporation.

Copies of the filing have been provided to the Public Utilities Commission of Ohio, the Pennsylvania Public Utility Commission, the Maryland Public Service Commission, the Virginia State Corporation Commission, the West Virginia Public Service Commission, and all parties of record.

Comment date: May 4, 2000, in accordance with Standard Paragraph E at the end of this notice.

21. Puget Sound Energy, Inc.

[Docket No. ER00-2191-000]

Take notice that on April 13, 2000, Puget Sound Energy, Inc., tendered for filing a Netting Agreement with Avista Energy, Inc.

A copy of the filing was served upon Avista Energy Inc.

Comment date: May 4, 2000, in accordance with Standard Paragraph E at the end of this notice.

22. Puget Sound Energy, Inc.

[Docket No. ER00-2192-000]

Take notice that on April 13, 2000, Puget Sound Energy, Inc., tendered for filing a Netting Agreement with British Columbia Power Exchange Corporation (Powerex).

A copy of the filing was served upon Powerex.

Comment date: May 4, 2000, in accordance with Standard Paragraph E at the end of this notice.

23. Puget Sound Energy, Inc.

[Docket No. ER00-2193-000]

Take notice that on April 13, 2000, Puget Sound Energy, Inc., tendered for filing a Netting Agreement with Merchant Energy Group of the Americas, Inc.

A copy of the filing was served upon Merchant Energy Group of the Americas, Inc.

Comment date: May 4, 2000, in accordance with Standard Paragraph E at the end of this notice.

24. Puget Sound Energy, Inc.

[Docket No. ER00-2194-000]

Take notice that on April 13, 2000, Puget Sound Energy, Inc., tendered for filing a Netting Agreement with PG&E Energy Trading-Power, L.P.

A copy of the filing was served upon PG&E Energy Trading-Power, L.P.

Comment date: May 4, 2000, in accordance with Standard Paragraph E at the end of this notice.

25. New England Power Company

[Docket No. ER00-2195-000]

Take notice that on April 13, 2000, New England Power Company (NEP), tendered for filing Notice of Cancellation of the Unit Power Contract between NEP and UNITIL Power Corp., FERC Electric Rate Schedule No. 380.

NEP requests that cancellation be effective April 1, 2000.

Comment date: May 4, 2000, in accordance with Standard Paragraph E at the end of this notice.

26. Pacific Gas and Electric Company

[Docket No. ER00-2196-000]

Take notice that on April 13, 2000, Pacific Gas and Electric Company (PG&E), tendered for filing proposed revisions to Appendix G, “Relay Settings for Automatic Load Shedding and Underfrequency Protective Relaying,” of the Interconnection Agreement (IA) between PG&E and the Modesto Irrigation District (MID). The IA was initially filed under FERC Docket No. ER88-302-000 and was designated PG&E Rate Schedule FERC No. 116.

Copies of this filing have been served upon MID and the California Public Utilities Commission.

Comment date: May 4, 2000, in accordance with Standard Paragraph E at the end of this notice.

27. Florida Power & Light Company

[Docket No. ER00-2197-000]

Take notice that on April 13, 2000, Florida Power & Light Company (FPL), tendered for filing Service Agreements with Sempra Energy Trading Corp., Aquila Energy Marketing Corporation, Orlando Utilities Commission, Oglethorpe Power Corporation, Avista Energy, Inc., Noram Energy Services, Inc., for service pursuant to Tariff No. 1 for Sales of Power and Energy by Florida Power & Light and Service Agreements with Connective Energy Supply, Inc., Oglethorpe Power Corporation, Enron Power Marketing, Inc., Orlando Utilities Commission, Carolina Power & Light Company, Morgan Stanley Capital Group Inc., Duke Power Company, GPU Energy, Cargill-Alliant, LLC, and Noram Energy Services, Inc., for service pursuant to FPL's Market Based Rates Tariff.

FPL requests that the Service Agreements be made effective on March 17, 2000.

Comment date: May 4, 2000, in accordance with Standard Paragraph E at the end of this notice.

28. Commonwealth Edison Company

[Docket No. ER00-2199-000]

Take notice that on April 12, 2000, Commonwealth Edison Company (ComEd) tendered for filing a Network Operating Agreement (Agreement) between ComEd and the City of Dowagiac (Dowagiac). This agreement will govern non-rate terms of ComEd's provision of network service to serve the City of Dowagiac (Dowagiac) under the terms of ComEd's Open Access Transmission Tariff (OATT).

ComEd requests an effective date of March 1, 2000, and accordingly, seeks waiver of the Commission's notice requirements.

Copies of this filing were served on EWMD and Dowagiac.

Comment date: May 4, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-10224 Filed 4-24-00; 8:45 am]

BILLING CODE 6717-01-P